DEPARTMENT OF HEALTH AND HUMAN SERVICES

Centers for Disease Control and Prevention

[60Day-04-64]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Sandra Gambescia, CDC Assistant Reports Clearance Officer, 1600 Clifton Road, MS-E11, Atlanta, GA 30333 or send an e-mail to omb@cdc.gov. Written comments should be received within 60 days of this notice.

Proposed Project

Comprehensive Cancer Control (CCC) Capacity Assessment—New—National Center for Chronic Disease Prevention and Health Promotion (NCCDPHP), Centers for Disease Control and Prevention (CDC).

Background and Brief Description

While much has been learned about the development of the Comprehensive Cancer Control (CCC) plans, little is known about: (1) CCC grantee activities; (2) organizational capacity to plan, implement, or evaluate CCC efforts; and (3) essential elements of implementing CCC plans. CDC, through an evaluation contract will assess these three components of the CCC Program. This assessment focuses on the second component of the evaluation. The purpose of the capacity assessment is to ascertain the capacity of states, territories and tribal organizations to plan, implement and evaluate CCC efforts.

A Web-based survey will be used to collect descriptive information from all 50 states, the District of Columbia, 8 territories, and 15 tribes on six critical areas of capacity (funding, staffing, data, partnerships, leadership and organizational support.) CCC Program Managers or chronic disease Directors will complete the survey, with assistance from other staff or partner organizations as needed. A total of 74 managers or directors will be asked to complete the survey, which is expected to take an average of 2 hours to complete. Other staff or partner organizations assisting respondents in completing the survey will spend 15 minutes, on average, providing information. Respondents who indicate that particular CCC activities are not in place will be contacted by telephone to explore issues, barriers, and future plans. We estimate that these telephone calls will be made to one-third of respondents and will take an average of 30 minutes to complete. The only cost to respondents is their time. This is a one-time data collection effort.

Form | Respondents | Number of respondents | Number of responses/respondents | Average burden per response (in hrs.) | Total burden hours
1 | State and Territory managers or directors | 66 | 1 | 2 | 132
1 | State and Territory staff or partners | 132 | 1 | 15/60 | 33
2 | Tribal managers or directors | 8 | 1 | 2 | 16
2 | Tribal staff or partners | 16 | 1 | 15/60 | 4
3 | State, tribe and territory follow-up respondents | 24 | 1 | 30/60 | 12
Total |  |  |  |  | 197

Dated: June 7, 2004.
Bill Atkinson,
Acting Director, Management Analysis and Services Office, Centers for Disease Control and Prevention.

[FR Doc. 04-13263 Filed 6-10-04; 8:45 am]

BILLING CODE 4163-18-P